NATIONAL ARCHIVES AND RECORDS ADMINISTRATION

[NARA-2017-007]

Advisory Committee on the Records of Congress; Meeting

AGENCY: National Archives and Records Administration (NARA).

ACTION: Notice of advisory committee meeting.

SUMMARY: In accordance with the Federal Advisory Committee Act, the National Archives and Records Administration (NARA) announces a meeting of the Advisory Committee on the Records of Congress. The committee advises NARA on the full range of programs, policies, and plans for the Center for Legislative Archives in the Office of Legislative Archives, Presidential Libraries, and Museum Services (LPM).

DATES: The meeting will be on Monday, December 5, 2016 from 10:00 a.m. to 11:30 a.m.

ADDRESSES: The United States Capitol, 1st Street, Washington, DC 20515, Room S-211 (The LBJ Room).

FOR FURTHER INFORMATION CONTACT: Center for Legislative Archives at 202.357.5350, or Sharon Fitzpatrick at sharon.fitzpatrick@nara.gov.

SUPPLEMENTARY INFORMATION:

Agenda

(1) Chair's Opening Remarks—Secretary of the U.S. Senate

(2) Recognition of co-chair—Clerk of the U.S. House of Representatives

(3) Recognition of the Archivist of the United States

(4) Approval of the minutes of the last meeting

(5) Senate Archivist's report

(6) House Archivist's report

(7) Center update

(8) Other current issues and new business

The meeting is open to the public.

Patrice Murray,
Committee Management Officer.

[FR Doc. 2016-27276 Filed 11-10-16; 8:45 am]

BILLING CODE 7515-01-P